ENVIRONMENTAL PROTECTION AGENCY

40 CFR Part 147

[EPA-HQ-OW-2015-0372; FRL-9936-90-OW]

Request for Comment: Kentucky Underground Injection Control (UIC) Program; Primacy Approval

AGENCY: Environmental Protection Agency (EPA).

ACTION: Notice of public comment period and opportunity to request a public hearing.

SUMMARY: The U.S. Environmental Protection Agency (EPA) hereby gives public notice that the EPA has received a complete application from the Commonwealth of Kentucky requesting approval of its Underground Injection Control (UIC) Program for Class II injection wells. The EPA has determined the application contains all the required elements; see the ADDRESSES section for information on how to access the application documents. Public comments are requested and any member of the public may request a public hearing. This application would allow the Kentucky Division of Oil and Gas to regulate all Class II injection wells in Kentucky.

DATES: Comments will be accepted on or before December 23, 2015. Requests for a public hearing must be received by December 9, 2015. Requests for a hearing should be mailed to Nancy Marsh (see the FOR FURTHER INFORMATION CONTACT section). The EPA will determine by December 11, 2015, whether there is sufficient interest to warrant a public hearing. If determined to be warranted, the public hearing will be held on December 16, 2015 at 1:00 p.m. in Conference Room #D16 at the Department for Natural Resources, #2 Hudson Hollow, Frankfort, KY 40601. For additional information regarding the public hearing, please contact Nancy Marsh.

ADDRESSES: Submit your comments, identified by Docket ID No. EPA-HQ-OW-2015-0372 to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.Comments should also be sent to Nancy Marsh (see the FOR FURTHER INFORMATION CONTACT section).

Publicly available docket materials are available either electronically in www.regulations.gov or in hard copy at the following locations:

(1) U.S. Environmental Protection Agency, Region 4, Library, 9th Floor, 61 Forsyth Street SW., Atlanta, Georgia 30303. The Library is open from 8:00 a.m. to 4:30 p.m. Monday through Friday, excluding legal holidays. The telephone number for the Library is (404) 562-8190.

(2) Kentucky Department of Natural Resources, Division of Oil and Gas 1025 Capital Center Drive, Frankfort, Kentucky 40601. The Office is open from 8:00 a.m. to 12:00 p.m. and 1:00 p.m.-5:00 p.m. Monday through Friday, excluding legal holidays. Please contact Marvin Combs at (502) 573-0147.

(3) Kentucky Underground Injection Control Program, Primacy Approval: EPA West, Room 3334, 1301 Constitution Ave. NW., Washington, DC. The Public Reading Room is open from 8:30 a.m. to 4:30 p.m., Monday through Friday, excluding legal holidays. The telephone number for the Public Reading Room is (202) 566-1744, and the telephone number for the OW Docket is (202) 566-2426.

FOR FURTHER INFORMATION CONTACT: Nancy Marsh, GW & UIC Section, U.S. Environmental Protection Agency, Region 4, 61 Forsyth Street SW., Atlanta, Georgia 30303; telephone number: (404) 562-9350; fax number: (404) 562-9439; email address: marsh.nancy@epa.gov.

SUPPLEMENTARY INFORMATION: The Commonwealth of Kentucky has submitted an application to regulate Class II injection wells in the State. The application was determined to be complete because it contained all of the requirements of the Code of Federal Regulations (CFR) at 40 CFR 145.22(a), including: A letter from the Governor requesting program approval; a complete description of the State Underground Injection Control program; a statement of legal authority; a memorandum of agreement between the Commonwealth of Kentucky and the EPA, Region 4; copies of all applicable rules and forms; and a showing of the state's public participation process prior to program submission.

Dated: November 3, 2015.
Heather McTeer Toney,
Regional Administrator, Region 4.

[FR Doc. 2015-28662 Filed 11-9-15; 8:45 am]

BILLING CODE 6560-50-P